DEPARTMENT OF JUSTICE

Drug Enforcement Administration

Manufacturer of Controlled Substances; Notice of Registration

By Notice dated April 14, 2005, and published in the Federal Register on April 25, 2005 (70 FR 10683), Penick Corporation, Inc., 158 Mount Olivet Avenue, Newark, New Jersey, 07114, made application by renewal to the Drug Enforcement Administration (DEA) to be registered as a bulk manufacturer of the basic class of controlled substances listed in Schedule II:

Drug | Schedule
Cocaine (9041) | II
Codeine (9050) | II
Dihydrocodeine (9120) | II
Oxycodone (9143) | II
Hydromorphone (9150) | II
Ecgonine (9180) | II
Hydrocodone (9193) | II
Morphine (9300) | II
Thebaine (9333) | II
Oxymorphone (9652) | II

The company plans to manufacture the listed bulk controlled substances in bulk for distribution to its customers.

Following the Notice of Application publication on April 25, 2005, (70 FR 17472-17473), Penick Corporation, 158 Mount Olivet Avenue, Newark, New Jersey 07114, relocated its operations to 33 Industrial Park Road, Pennsville, New Jersey 08070 on May 18, 2005. DEA conducted a full investigation and inspection of the company's security which was found to be in compliance with all required regulations.

One comment was received; however, the comment was not relevant to the company's current activities as a manufacturer of Schedule II controlled substances.

DEA has considered the factors in 21 U.S.C. 823(a) and determined that the registration of Penick Corporation to manufacture the listed basic class of controlled substances is consistent with the public interest at this time. DEA has investigated Penick Corporation to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic class of controlled substances listed.

Dated: November 18, 2005.
Joseph T. Rannazzisi,
Acting Deputy Assistant Administrator, Office of Diversion Control, Drug Enforcement Administration.

[FR Doc. E5-6607 Filed 11-28-05; 8:45 am]

BILLING CODE 4410-09-P